DEPARTMENT OF HEALTH AND HUMAN SERVICES

Administration for Children and Families

Proposed Information Collection Activity; Comment Request

Proposed Projects

Title: ORR-3 Placement Report and ORR-4 Outcomes Report for Unaccompanied Refugee Minor.

OMB No.: 0970-0034.

Description: As required by section 412(d) of the Immigration and Nationality Act, the Administration for Children and Families (ACF), Office of Refugee Resettlement (ORR), is requesting the information from report Form ORR-3 and ORR-4 to administer the Unaccompanied Refugee Minor (URM) program. The ORR-3 (Placement Report) is submitted to the Office of Refugee Resettlement (ORR) by the State agency at initial placement within 30 days of the placement, and whenever there is a change in the child's status, including termination from the program, within 60 days of the change or closure of the case. The ORR-4 (Outcomes Report) is submitted within approximately 12 months of the initial placement and each subsequent 12 months to record outcomes of the child's progress toward the goals listed in the child's case plan and particularly for youth 17 years of age and above related to independent living and/or educational plans. ORR-4 is also submitted along with the initial ORR-3 report for 17 year old youth. ORR regulation at 45 CFR 400.120 describes specific URM program reporting requirements.

Respondents: State governments.

Annual Burden Estimates
Instrument | Number of respondents | Number of responses per respondent | Average burden hours per response | Total burden hours
ORR-3 | 15 | Estimate responses 75 | 0.25 | Estimated 281.25
ORR-4 | 15 | Estimate responses 119 | 1.25 | Estimated 2231.25

Estimated Total Annual Burden Hours: 2512.5.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (d) ways to minimize the burden of the collection of information on respondents, including through the use of automated collection techniques or other forms of information technology. Consideration will be given to comments and suggestions submitted within 60 days of this publication.

Robert Sargis,
Reports Clearance Officer.

[FR Doc. 2012-19418 Filed 8-7-12; 8:45 am]

BILLING CODE 4184-01-P